DEPARTMENT OF THE INTERIOR

National Park Service

[NPS-PWR-LAVO-18130; PS.SPWLA0017.00.1]

Minor Boundary Revision at Lassen Volcanic National Park

AGENCY: National Park Service, Interior.

ACTION: Notification of boundary revision.

SUMMARY: The boundary of Lassen Volcanic National Park is modified to include 136.69 acres of land located in Tehama County, California, immediately adjoining the current park boundary. Subsequent to the proposed boundary revision, the National Park Service will acquire the land by purchase, with available funds, from willing sellers.

DATES: The effective date of this boundary revision is July 31, 2015.

ADDRESSES: The map depicting this boundary revision is available for inspection at the following locations: National Park Service, Land Resources Program Center, Pacific West Region, 333 Bush Street, Suite 500, San Francisco, CA 94104, and National Park Service, Department of the Interior, 1849 C Street NW., Washington, DC 20240.

FOR FURTHER INFORMATION CONTACT: Chief Realty Officer Greg Gress, National Park Service, Land Resources Program Center, Pacific West Region, 333 Bush Street, Suite 500, San Francisco, CA 94104, telephone (415) 623-2120.

SUPPLEMENTARY INFORMATION: Notice is hereby given that, pursuant to 54 U.S.C. 100506(c), the boundary of Lassen Volcanic National Park is modified to include 136.69 acres of land identified as Tracts 01-175 and 01-176, Tehama County tax parcel numbers 013-290-01-1, 013-290-04-1, and 013-280-25-1. The land is located in Mineral, California, immediately adjacent to the Lassen Volcanic National Park headquarters site. The boundary revision is depicted on Map No. 111/120,320 dated April 2013.

54 U.S.C. 100506(c) provides that, after notifying the House Committee on Natural Resources and the Senate Committee on Energy and Natural Resources, the Secretary of the Interior is authorized to make this boundary revision upon publication of notice in the Federal Register. The Committees have been notified of this boundary revision. The inclusion of these tracts in the boundary and subsequent acquisition will provide the park with needed flexibility for the expansion of administrative, maintenance, and housing facilities at the Mineral headquarters site.

Dated: June 11, 2015.
Patricia L. Neubacher,
Acting Regional Director, Pacific West Region.

[FR Doc. 2015-18804 Filed 7-30-15; 8:45 am]

BILLING CODE 4312-FF-P